SOCIAL SECURITY ADMINISTRATION

[Docket No. SSA-2014-0064]

Cost-of-Living Increases and Other Determinations for 2015; Correction

AGENCY: Social Security Administration.

ACTION: Notice; correction.

SUMMARY: The Social Security Administration published a document in the Federal Register of October 29, 2014, concerning the cost-of-living increase in Social Security benefits effective December 31, 2014. The new document specifies the effective date of the 1.7 percent cost-of-living increase in Social Security benefits.

FOR FURTHER INFORMATION CONTACT: Susan C. Kunkel, 410-965-3000.

Correction

In the Federal Register of October 29, 2014, in FR Doc. 2014-25802, on page 66455, in the third column, make the following correction, in the Summary section. Change the effective date of the 1.7 percent cost-of-living increased from “December 2014” to “December 31, 2014”.

Paul Kryglik,
Director, Office of Regulations and Reports Clearance.

[FR Doc. 2014-26139 Filed 11-3-14; 8:45 am]

BILLING CODE 4191-02-P